DEPARTMENT OF COMMERCE

National Oceanic and Atmospheric Administration

RIN 0648-XF221

Caribbean Fishery Management Council; Public Meeting

AGENCY: National Marine Fisheries Service (NMFS), National Oceanic and Atmospheric Administration (NOAA), Commerce.

ACTION: Notice of a public meeting.

SUMMARY: The Caribbean Fishery Management Council's (Council) District Advisory Panels (DAPs) for Puerto Rico, St. Croix and St. Thomas/St. John, USVI, will hold a joint meeting.

DATES: The meeting will be held on March 7-8, 2017, from 9:30 a.m. to 4:30 p.m.

ADDRESSES: The meeting will be held at the Verdanza Hotel, Tartak St., Isla Verde, Puerto Rico.

FOR FURTHER INFORMATION CONTACT: Caribbean Fishery Management Council, 270 Muñoz Rivera Avenue, Suite 401, San Juan, Puerto Rico 00918, telephone: (787) 766-5926.

SUPPLEMENTARY INFORMATION: The DAPs will meet to discuss the items contained in the following agenda:

March 7, 2017, 9:30 a.m.

—Call to Order

—Welcome—Miguel A. Rolón

—Council Process—Helena Antoun

—DAP Members Outreach and Education—Alida Ortíz

—USVI Fishery Advisory Committees Update

—St. Thomas/St. John

—St. Croix

—Issues and Questions to be Answered by the DAPs

March 7, 2017, 1:30 p.m.-2 p.m.

—Breakout Sessions

March 7, 2017, 3 p.m.-3:15

—Coffee Break

March 7, 2017, 3:15 p.m.-4:30 p.m.

—Report on Breakout Discussions—DAP Chairs

—Puerto Rico

—St. Croix

—St. Thomas/St. John

March 8, 2017, 9:30 a.m.-12 noon

—Separate DAP Meetings to Discuss Issues Related to Providing Recommendations to the CFMC (April 2017 meeting)

March 8, 2017, 1:30 p.m.-3 p.m.

—Reports by the DAP Chairs on the Morning Session

—Puerto Rico

—St. Croix

—St. Thomas/St John

March 8, 2017, 3 p.m.-3:15 p.m.

—Coffee Break

March 8, 2017, 3:15 p.m.-4:30 p.m.

—All Three DAPs Session: Discussion and Recommendations

—Other Business

—Adjourn

The meeting is open to the public, and will be conducted in English. Fishers and other interested persons are invited to attend and participate with oral or written statements regarding agenda issues.

Special Accommodations

This meeting is physically accessible to people with disabilities. For more information or request for sign language interpretation and/other auxiliary aids, please contact Mr. Miguel A. Rolón, Executive Director, Caribbean Fishery Management Council, 270 Muñoz Rivera Avenue, Suite 401, San Juan, Puerto Rico, 00918, telephone: (787) 766-5926, at least 5 days prior to the meeting date.

Dated: February 8, 2017.
Tracey L. Thompson,
Acting Deputy Director, Office of Sustainable Fisheries, National Marine Fisheries Service.

[FR Doc. 2017-02889 Filed 2-10-17; 8:45 am]

BILLING CODE 3510-22-P